DEPARTMENT OF JUSTICE

Notice of Modification of Consent Decree Under the Clean Water Act

Under 28 CFR 50.7, the Environment and Natural Resources Division of the Department of Justice proposes to modify a Consent Decree in United States and State of Louisiana v. Sewerage District No. 1 of Iberia Parish, Civil Action No. 04-1352. The Consent Decree was entered by the United States District Court for the Western District of Louisiana on December 20, 2004.

In this action the United States, and its co-plaintiff the State of Louisiana, sought injunctive relief and a civil penalty to address sanitary sewer overflows and other violations of the Clean Water Act and the National Pollutant Discharge Elimination System (“NPDES”) permit issued to Sewerage District No. 1 of Iberia Parish (“Sewerage District”) for the Tete Bayou publicly owned treatment works. Under the Consent Decree, the Sewerage District agreed, inter alia, to construct an equalization basin at the Tete Bayou Plant to relieve wet weather plant hydraulic overload conditions; and to comprehensively study and rehabilitate the Sewerage District's collection system to eliminate sanitary sewer overflows from the system. Additionally, the Sewerage District paid the United States and LDEQ a civil penalty of $51,400. The Sewerage District has asked for a modification of Paragraph 17.A of the Consent Decree to allow an extension of the end date for the completion of collection system rehabilitation projects from December 30, 2008, to December 30, 2009. The United States and the State of Louisiana believe that the proposed modification is appropriate here.

The Department of Justice will receive for a period of thirty (30) days from the date of this publication comments relating to the modification of the Consent Decree. Comments should be addressed to the Acting Assistant Attorney General, Environment and Natural Resources Division, P.O. Box 7611, U.S. Department of Justice, Washington, DC 20044-7611, and should refer to United States v. Sewerage District No. 1 of Liberia Parish, D.J. Ref. No. 90-5-1-1-07473.

The proposed modification to the Consent Decree may be examined during the public comment period on the following Department of Justice Web site: http://www.usdoj.gov/enrd/open.html. A copy of the modification of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1537. In requesting a copy from the Consent Decree Library, please enclose a check in the amount of $.25 (25 cents per page reproduction cost) payable to the U.S. Treasury.

Thomas A. Mariani, Jr.,
Assistant Section Chief, Environmental Enforcement Section, Environment and Natural Resources Division.

[FR Doc. 05-18885 Filed 9-21-05; 8:45 am]

BILLING CODE 4410-15-M